FEDERAL ELECTION COMMISSION

11 CFR Part 113

[Notice 2023-04]

Candidate Salaries

AGENCY: Federal Election Commission.

ACTION: Proposed rule; public hearing.

SUMMARY: The Commission is announcing a hybrid public hearing on proposed changes to regulations regarding the use of campaign funds by a candidate's principal campaign committee to pay compensation to the candidate.

DATES: The hearing will be held on Wednesday, March 22, 2023, and will begin at 11 a.m.

ADDRESSES: The hearing will be held at the Federal Election Commission, 1050 First St. NE, 12th floor Hearing Room, Washington, DC 20463, and virtually. For those attending the meeting in person, current COVID-19 safety protocols for visitors, which are based on the CDC COVID-19 community level in Washington, DC, will be updated on the Commission's contact page, www.fec.gov/contact/, by the Monday before the hearing. This hearing will be open to the public, subject to the above-referenced guidance regarding the COVID-19 community level and corresponding health and safety procedures. Virtual attendees may access the hearing by going to the Commission's website, www.fec.gov, and clicking on the banner to be taken to the hearing page.

FOR FURTHER INFORMATION CONTACT: Ms. Amy L. Rothstein, Assistant General Counsel for Policy, or Mr. Joseph P. Wenzinger, Attorney, or Cheryl A. Hemsley, Attorney, 1050 First Street NE, Washington, DC 20463, (202) 694-1650 or (800) 424-9530.

SUPPLEMENTARY INFORMATION: On December 12, 2022, the Commission published a Notice of Proposed Rulemaking (“NPRM”) proposing changes to regulations regarding the use of campaign funds by a candidate's principal campaign committee to pay compensation to the candidate.¹ The deadline for comments on the NPRM was February 10, 2023. In the NPRM, the Commission stated that it may hold a public hearing and, if so, it would publish notification in the Federal Register announcing the date and time.

¹ Candidate Salaries, 87 FR 75945 (Dec. 12, 2022).

Accordingly, the Commission is announcing that it will hold a hybrid public hearing on Wednesday, March 22, 2023 (see DATES and ADDRESSES above). Witnesses will include those who indicated in their timely written comments on the NPRM that they wished to testify at the hearing. The Commission may also invite witnesses to testify. The Commission will make transcripts of the hearing available on its website after the hearing. Individuals who plan to attend in person and require special assistance, such as sign language interpretation or other reasonable accommodations, should contact Laura E. Sinram, Secretary and Clerk, at (202) 694-1040, at least 72 hours prior to the meeting date.

On behalf of the Commission,
Dara S. Lindenbaum,
Chair, Federal Election Commission.

[FR Doc. 2023-04365 Filed 3-2-23; 8:45 am]

BILLING CODE 6715-01-P